DEPARTMENT OF COMMERCE

Census Bureau

Submission for OMB Review; Comment Request

The Department of Commerce will submit to the Office of Management and Budget (OMB) for clearance the following proposal for collection of information under the provisions of the Paperwork Reduction Act.

Agency: U.S. Census Bureau.

Title: American Community Survey Methods Panel Tests, 2019 Due Dates Test.

OMB Control Number: 0607-0936.

Form Number(s): ACS-1, ACS internet.

Type of Request: Non-substantive Change Request.

Number of Respondents: 144,000.

Average Hours per Response: 40 minutes.

Burden Hours: No additional burden hours are requested under this non-substantive change request.

Needs and Uses: The American Community Survey (ACS) collects detailed socioeconomic data from about 3.5 million housing units in the United States and 36,000 in Puerto Rico each year. The ACS also collects detailed socioeconomic data from about 195,000 residents living in Group Quarter (GQ) facilities. An ongoing data collection effort with an annual sample of this magnitude requires that the ACS continue research, testing, and evaluations aimed at reducing respondent burden, improving data quality, achieving survey cost efficiencies, and improving ACS questionnaire content and related data collection materials. The ACS Methods Panel is a research program designed to address and respond to issues and survey needs.

Residents of sampled housing units are invited to self-respond to the ACS through a series of up to five mailings. These mailings are sent to respondents over approximately six and a half weeks. Research has shown that when a request has a sense of urgency, people are more likely to comply with the request (Kotter, 2008; Gunelius, 2009). One way of creating a sense of urgency is through deadline or due date messaging. The current ACS mailings contain implied due date messages, such as “. . . please complete the survey online as soon as possible” or “If you have not already responded, please do so now” but do not provide an explicit due date. The purpose of this test is to assess the effect on self-response of an explicit due date message in the fifth mailing.

Six experimental treatments are proposed. One treatment will serve as the control and will not contain an explicit due date. The other treatments will vary the use and placement of a due date.

This test will study the impact on self-response and cost of including a due date in the fifth mailing. To field this test, the Census Bureau plans to use the ACS production sample (clearance number: 0607-0810, expires 06/30/2020). Thus, there is no increase in burden from this test since each treatment will result in the same burden estimate per interview (40 minutes). The Census Bureau proposes to test the use of due date messages as part of the ACS September or October 2019 panel, adhering to the same data collection protocols as production ACS.

The ACS sample design consists of randomly assigning each monthly sample panel into 24 groups of approximately 12,000 addresses each. Each group, called a methods panel group, within a monthly sample is representative of the full monthly sample. Each monthly sample is a representative subsample of the entire annual sample and is representative of the sampling frame. The Census Bureau proposes to use two randomly selected methods panel groups for each treatment. Hence, each treatment will have a sample size of approximately 24,000 addresses. In total, approximately 144,000 addresses will be used for the six experimental treatments. The remaining sample will receive production materials.

The Census Bureau proposes to evaluate treatment comparisons by comparing self-response rates. For each comparison a two-tailed test will be used so that the Census Bureau can measure the impact on the evaluation measure in either direction with 80 percent power, at the α = 0.1 level. The sample size will be able to detect differences of approximately 1.74 percentage points between the self-response return rates between two experimental treatments. Additionally, a cost analysis will also be conducted.

Affected Public: Individuals or households.

Frequency: One-time test as part of the monthly American Community Survey.

Respondent's Obligation: Mandatory.

Legal Authority: Title 13, United States Code, Sections 141, 193, and 221.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-09767 Filed 5-10-19; 8:45 am]

BILLING CODE 3510-07-P